DEPARTMENT OF DEFENSE

Department of the Air Force

32 CFR Part 809a

[Docket ID: USAF-2018-HQ-0007]

RIN 0701-AA84

Civil Disturbance Intervention and Disaster Assistance

AGENCY: Department of the Air Force, DoD.

ACTION: Final rule.

SUMMARY: This final rule amends this part by removing the portion which addresses the Department of the Air Force Civil Disturbance Intervention and Disaster Assistance. The current version of this rule was published March 26, 2002. This rule provides internal guidance for the use of Air Force resources and personnel in controlling civil disturbances and in supporting disaster relief operations. Subpart B is unnecessary as it restates existing statute, and there exists DoD-level policy for the execution and oversight of Defense Support of Civil Authorities (DSCA). The Air Force also has internal procedures and standards for the DSCA mission and operations. Therefore, this part can be removed from the CFR.

DATES: This rule is effective on February 8, 2019.

FOR FURTHER INFORMATION CONTACT: Maj. Michael, J. Kwon at 703-693-4459.

SUPPLEMENTARY INFORMATION: It has been determined that publication of this CFR subpart removal for public comment is impracticable, unnecessary, and contrary to public interest since it is based on removing information which either restates statue (Stafford Act (42 U.S.C. 5121-5207) and the Economy Act (31 U.S.C. 1535)) or is duplicative of publicly available DoD and Air Force internal policy. Internal guidance for the DoD policy execution and oversight of DSCA will continue to be published in DoD Directive 3025.18, “Defense Support of Civil Authorities” (available at http://www.esd.whs.mil/Portals/54/Documents/DD/issuances/dodd/302518p.pdf?ver=2018-03-19-093120-683). Department of the Air Force internal guidance will continue to be published in Air Force Instruction 10-801 (available at http://static.e-publishing.af.mil/production/1/af_a3/publication/afi10-801/afi10-801.pdf).

This rule is not significant under Executive Order (E.O.) 12866, “Regulatory Planning and Review,” therefore, E.O. 13771, “Reducing Regulation and Controlling Regulatory Costs” does not apply.

List of Subjects in 32 CFR Part 809a

Civil defense, Civil disorders, Disaster assistance, Federal buildings and facilities, Foreign relations, Law enforcement, Military personnel.

Accordingly, 32 CFR part 809a is amended as follows:

PART 809a—INSTALLATION ENTRY POLICY, CIVIL DISTURBANCE INTERVENTION AND DISASTER ASSISTANCE

1. The authority citation for part 809a continues to read as follows:

Authority: 10 U.S.C. 332 and 333.

Subpart B—[Removed and Reserved]

2. Subpart B, consisting of §§ 809a.6 through 809a.11 is removed and reserved vv.

Henry Williams,
Acting Air Force Federal Register Liaison Officer.

[FR Doc. 2019-01666 Filed 2-7-19; 8:45 am]

BILLING CODE 5001-10-P